CORPORATION FOR NATIONAL AND COMMUNITY SERVICE

Sunshine Act Meeting

The Board of Directors of the Corporation for National and Community Service gives notice of the following meeting:

Date and Time: Wednesday, September 21, 2005, 9:30 a.m.-11:30 a.m.

Place: Wyndham Washington DC; Monticello West Room; 1400 M Street, NW., Washington, DC 20005.

Status: Open.

Matters to be Considered:

I. Chair's Opening Remarks

II. Consideration of Prior Meeting's Minutes

III. Committee Reports

IV. CEO Report

V. Public Comment

Accommodations: Anyone who needs an interpreter or other accommodation should notify the Corporation's contact person by 5 p.m. Monday, September 19, 2005.

FOR FURTHER INFORMATION CONTACT: David Premo, Public Affairs Associate, Public Affairs, Corporation for National and Community Service, 10th Floor, Room 10302E, 1201 New York Avenue, NW., Washington, DC 20525. Phone (202) 606-6717. Fax (202) 606-3460. TDD: (202) 606-3472. E-mail: dpremo@cns.gov.

Dated: September 13, 2005.
Frank R. Trinity,
General Counsel.

[FR Doc. 05-18494 Filed 9-13-05; 3:03 pm]

BILLING CODE 6050-$$-P